DEPARTMENT OF JUSTICE

National Institute of Corrections

Solicitation for a Cooperative Agreement: Document—Inmate Behavior Management: Keeping Inmates Productively Occupied

AGENCY: National Institute of Corrections, Department of Justice.

ACTION: Solicitation for a Cooperative Agreement.

SUMMARY: The National Institute of Corrections, Jails Division, is seeking applications for the development of a document that provides jail practitioners with a guide on developing and implementing programs and activities for jail inmates, as part of an overall strategy to manage inmate behavior.

DATES: Applications must be received by 4 p.m. EDT, Friday, August 15, 2008.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, ext. 0 for pickup. Faxed or e-mailed applications will not be accepted. Electronic applications can be submitted via http://www.grants.gov.

FOR FURTHER INFORMATION CONTACT: A copy of this announcement and the required application forms can be downloaded from the NIC Web page at http://www.nicic.gov. Hard copies of the announcement can be obtained by calling Pam Davison at 1-800-995-6423 ext. 30484 or e-mail pdavison@bop.gov.

All technical or programmatic questions concerning this announcement should be directed to Robbye Braxton-Mintz, Correctional Program Specialist, National Institute of Corrections, Jails Division. Ms. Mintz can be reached on 1-800-995-6423 ext. 44562 or by e-mail at rbraxtonmintz@bop.gov.

SUPPLEMENTARY INFORMATION: Background: The National Institute of Corrections (NIC) has identified six key elements in the effective management of inmate behavior in jails:

Assessing the risks and needs of each inmate at various points during his/her detention;

Assigning inmates to appropriate housing;

Meeting inmates' basic needs;

Defining and conveying expectations for inmate behavior;

Supervising inmates;

Keeping inmates productively occupied.

If a jail fully and properly implements all six elements, it should experience a significant reduction in the negative inmate behavior often experienced in jails, such as vandalism, violence, rule violations, and disrespectful behavior toward staff and other inmates.

The NIC Jails Division offers training and technical assistance on inmate behavior management, but wishes to develop additional tools that will help jails implement the individual elements.

Objectives: The National Institute of Corrections wishes to produce a document that gives jail practitioners guidance on how to develop and implement inmate activities and programs, as part of the overall inmate behavior management strategy.

Statement of Work: General Information.

Document Length: The number of pages in the body is to be determined. The document will include appendices and a bibliography.

Document Audience: Jail administrators and program management staff. This guide is intended for use by jails of all sizes.

Use of Document: The document will be a practical guide for developing and implementing inmate activities and programs in a jail setting, as part of the overall inmate behavior management strategy.

Document Distribution: NIC expects to distribute the document widely. It will be made available on the NIC Web site and through the NIC Information Center, upon request and free of charge.

Document Content: The document will be a clear and practical guide for jail practitioners on developing, implementing, and evaluating inmate activities and programs in jails, within the context of inmate behavior management. It must account for diversity among jails, in terms of size and resources available.

The document will cover the following, at a minimum:

The benefits of implementing inmate activities and programs in jails related to reducing idle time and negative behavior. The document must cite the available evidence of the relationship between inmate activities and programs and the reduction of negative inmate behavior. This will involve identifying research on this topic and contact with a variety of jails to obtain information on their experience. In some cases, studies may be available. In other cases, only anecdotal evidence may be given. The author will identify, review, and cite both types of evidence.

The role of jail administration and management staff in providing leadership and support for reducing negative inmate behavior through implementation of activities and programs. The author will stress the importance of the jail administrator's demonstrated commitment to this and provide concrete examples of how the administrator can actively demonstrate commitment.

Determination of need for inmate activities and programs. The document will discuss needs in two primary areas. The first area focuses on the needs of the jail regarding reduction of negative inmate behavior. The document will explain the collection and analysis of data on the types and frequency of inmate misbehavior and the relationship between misbehavior and lack of productive activities for inmates. The second area focuses on determining the needs of inmates as a basis for designing programs such as anger management, life skills, pro-social skills, substance abuse, education, physical fitness, and other. The document will explain how to collect and analyze data to identify trends in the needs of the inmate population, with reference to the first element of inmate behavior—“assessing the risks and needs of each inmate.”

Goal setting. The document will describe how to set measurable goals for inmate activities and programs related to both areas of need noted above. The document will describe a process for setting realistic goals that can be measured, determining time frames for measuring goal achievement, and devising methods of measuring goal achievement.

Planning, designing, and implementing activities and programs. The document will describe considerations in planning, designing, and implementing programs that will contribute to achieving goals related to reduction of negative inmate behavior and meeting inmates' needs. This will include consideration of goals, identification of the inmate populations targeted, funding required, space and equipment needs, staffing needs (whether staff or volunteers), and the specific tasks and timelines required for implementation. It will also include a discussion of commonly encountered barriers to planning and implementing activities and programs—such as those related to resources, staff support, administrative commitment, and suggest strategies for overcoming the barriers, with examples from jails that have experienced this. Finally, the document will stress the importance of documenting activities and programs, with specific suggestions on the documentation necessary to evaluate both the quality of implementation and progress in achieving goals.

An overview of the range and types of inmate activities and programs that may be developed to reduce negative inmate behavior and meet inmates' needs. The document will provide examples of activities and programs that range from no-cost to high-cost and from simple to complex. It will also note, for example, the types of staff (jail staff, volunteers, non-jail personnel) that are necessary to implement the activities and programs. It is important that the document clearly convey that the jail has a variety of options that are no to low-cost and that some level of productive activities and programs can be implemented in any jail, regardless of size or resource levels. The document will also describe potential resources the jail can draw upon in implementing activities and programs.

Evaluation of activities and programs (assessing both the quality of implementation and success in achieving goals). The document will describe the data collection and analysis necessary for evaluation, and it will describe evaluation processes.

Revision of activities and programs based on evaluation Project Description: The awardee will produce a completed document that has received initial editing from a professional editor. NIC will be responsible for the final editing process and document design, but the awardee will remain available during this time to answer questions and to make revisions to the document.

Project Schedule: The list below shows the major activities required to complete the project. Document development will begin upon award of this agreement and must be completed 12 months after the award date. The schedule for completion of activities should include, at a minimum, the following activities. The awardee will:

Meet with NIC project manager for an overview of the project and initial planning;

Review materials provided by NIC;

Complete the initial outline of document content and layout;

Meet with NIC project manager to review, discuss and agree on content outline;

Research content topics and related resources;

Submit draft sections of document to NIC for review;

Revise draft sections for NIC's approval;

Submit document to editor hired by awardee for first content edit;

Submit a draft of entire document to NIC for review;

Revise document for NIC's approval; and

Submit document to NIC in hard copy and on disk in Microsoft Word format.

Throughout the project period, the awardee should make provision for meetings with NIC staff, to be held in Washington, DC, at critical planning and review points in document development.

Document Preparation: For all awards in which a document will be a deliverable, the awardee must follow the Guidelines for Preparing and Submitting Manuscripts for Publication as found in the “General Guidelines for Cooperative Agreements” which will be included in the award package.

Application Requirements: An application package must include OMB Standard Form 424, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (both available at http://www.grants.gov) and DOJ/NIC Certification Regarding Lobbying; Debarment, Suspension and Other Responsibility Matters; and the Drug-Free Workplace Requirements (available at http://www.nicic.gov/Downloads/PDF/certif-frm.pdf).

Applications should be concisely written, typed double spaced and reference the NIC Application Number and Title provided in this announcement.

Submit an original and three copies of your full proposal (program and budget narrative, application forms and assurances). The original should have the applicant's signature in blue ink. As previously stated, electronic submissions will only be accepted via www.grants.gov.

The narrative portion of the application should include, at a minimum, a:

Brief paragraph indicating the applicants' understanding of the purpose of the document and the issues to be addressed;

Brief paragraph that summaries the project goals and objectives;

Clear description of the methodology that will be used to complete the project and achieve its goals;

Statement or chart of measurable project milestones and time lines for the completion of each milestone;

Description of the qualifications of the applicant organization and a resume for the principal and each staff member assigned to the project that documents relevant knowledge, skills and ability to carry out the project;

Minimum of three references for which the applicant has provided a similar service;

Budget that details all costs for the project, shows consideration for all contingencies for this project, and notes a commitment to work within the proposed budget; and

Sample of a least one document completed by the applicant.

The applicant must specify its role in the production of the sample document(s).

Authority: Public Law 93-415.

Funds Available: NIC is seeking the applicants' best ideas regarding accomplishment of the scope of work and the related costs for achieving the goals of this solicitation. The final budget and award amount will be negotiated between NIC and the successful applicant. Funds may only be used for the activities that are linked to the desired outcome of the project.

Eligibility of Applicants: Applications are solicited from any state or general unit of local government, private agency, educational institution, organization, individual or team with expertise in the described areas. Applicants must have a demonstrated ability to implement a project of this size and scope.

Review Considerations: Applications will be reviewed by a team of NIC staff. Among the criteria used to evaluate the applications are:

Indication of a clear understanding of the project requirements;

Background, experience, and expertise of the proposed project staff, including any sub-contractors;

Effectiveness of the creative approach to the project;

Clear, concise description of all elements and tasks of the project, with sufficient and realistic time frames necessary to complete the tasks;

Technical soundness of project design and methodology;

Financial and administrative integrity of the proposal, including adherence to federal financial guidelines and processes;

A sufficiently detailed budget that shows consideration of all contingencies for this project and commitment to work within the budget proposed; and

Indication of availability to meet with NIC staff.

Number of Awards: One.

NIC Application Number: 08J66.

Catalog of Federal Domestic Assistance Number: 16.601.

Executive Order 12372: This project is not subject to the provisions of Executive Order 12372.

Thomas J. Beauclair,
Deputy Director, National Institute of Corrections.

[FR Doc. E8-17729 Filed 8-1-08; 8:45 am]

BILLING CODE 4410-36-P